DEPARTMENT OF DEFENSE

Office of the Secretary

[Docket ID DOD-2018-OS-0074]

Privacy Act of 1974; Matching Program

AGENCY: Office of the Secretary, Department of Defense (DoD).

ACTION: Notice of a new matching program.

SUMMARY: The purpose of this Computer Matching Agreement (CMA) is to verify eligibility for DoD/U.S. Coast Guard (USCG) members of the Reserve forces who receive Veterans Affairs (VA) disability compensation or pension to receive, in lieu and upon election, military pay and allowances when performing reserve duty.

DATES: Comments will be accepted on or before November 13, 2018. This proposed action will be effective the day following the end of the comment period unless comments are received which result in a contrary determination. The life of this CMA is estimated to cover the 18-month period from October 30, 2018 through April 29, 2020.

ADDRESSES: You may submit comments, identified by docket number and title, by any of the following methods:

Federal Rulemaking Portal: http://www.regulations.gov. Follow the instructions for submitting comments.

Mail: Department of Defense, Office of the Chief Management Officer, Directorate of Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Mr. Zachary A. Parker, Management Analyst, Defense Privacy, Civil Liberties, and Transparency Division, 4800 Mark Center Drive, Suite 08E08, Alexandria, VA 22350-2000, or by phone at (703) 571-0088.

SUPPLEMENTARY INFORMATION: FY17 Match: VA will submit to DMDC an electronic file of all VA pension and disability compensation beneficiaries as of the end of September 2017. Defense Manpower Data Center (DMDC) will perform a one-time match by SSN with Reserve pay data submitted by the military services and the USCG. For each SSN match, or “hit,” of both data sets, DMDC will provide VA the individual's name and other identifying data, to include the number of training days and paid active duty days, for each matched record. Training days and paid active duty days will be reported as separate totals. The hits will be furnished to VA, which will be responsible for verifying and determining that the data in the DMDC electronic files is consistent with the VA files.

Subsequent Matches: DMDC updates VA-DoD Identity Repository (VADIR) monthly. The electronic data provided by the VA will contain information on approximately 4.2 million pension and disability compensation recipients. VA will use the Reserve military pay data in VADIR to match against VA recipients of VA disability compensation or pension and to resolve any discrepancies or inconsistencies on an individual basis. VA will initiate actions to obtain an election by the individual of which pay he or she wishes to receive and will be responsible for making final determinations as to positive identification, eligibility for, or amounts of pension or disability compensation benefits, adjustments thereto, or any recovery of overpayments, or such other action as authorized by law.

Participating Agencies: The Department of Defense (DoD), Defense Manpower Data Center, DoD and Department of Veterans Affairs (VA).

Authority for Conducting the Matching Program: Title 38 U.S.C. 5304(c), Prohibition Against Duplication of Benefits, provides that VA disability compensation or pension based upon his or her previous military service shall not be paid to a person for any period for which such person receives active service pay.

Title 10 U.S.C. 12316, Payment of Certain Reserves While on Duty, further provides that a Reservist who is entitled to disability payments due to his or her earlier military service and who performs duty for which he or she is entitled to DoD/USCG compensation may elect to receive for that duty either the disability payments, or if he or she waives such payments, the DoD/USCG compensation for the duty performed.

Purpose(s): The purpose of this agreement is to verify eligibility for DoD/USCG members of the Reserve forces who receive VA disability compensation or pension to receive, in lieu and upon election, military pay and allowances when performing reserve duty.

1. For the FY17 match, VA will provide to DMDC identifying information on all VA recipients receiving a VA disability compensation or pension. DMDC will match the information with its Reserve military pay data and provide for each match (hit) the number of training days and the number of active duty days for which the veteran was paid in FY17. The VA will use this information to make, where appropriate, necessary VA payment adjustments. For subsequent matches, VA will use the Reserve military pay data in the VA-DoD Identity Repository (VADIR to match against VA recipients of VA disability compensation or pension). DMDC sends Reserve military pay data to VADIR monthly; the data provided by DMDC include all data elements required for the match.

Categories of Individuals: All Army, Navy, Air Force, Marine Corps, and Coast Guard officer and enlisted personnel who served on active duty from July 1, 1968, and after or who have been a member of a reserve component since July 1975 (hereafter the “Armed Forces”); retired Armed Forces personnel; active and retired members of the commissioned corps of the National Oceanic and Atmospheric Administration (NOAA) and the Public Health Service (PHS) (with Armed Forces above, hereafter referred to as the “Uniformed Services”). All individuals examined to determine eligibility for military service at an Armed Forces Entrance and Examining Station from July 1, 1970, and later.

Current and former DoD civilian employees since January 1, 1972. Veterans who used the Veterans Education Assistance Program (VEAP) from January 1977 through June 1985.

Participants in the Department of Health and Human Services National Longitudinal Survey.

Survivors of retired Armed Forces personnel who are eligible for or currently receiving disability payments or disability income compensation from the Department of Veteran Affairs; surviving spouses of active or retired deceased Armed Forces personnel; 100% disabled veterans and their survivors; and survivors of retired officers of NOAA and PHS who are eligible for, or are currently receiving, Federal payments due to the death of the retiree.

Individuals receiving disability compensation from the Department of Veteran Affairs or who are covered by a Department of Veteran Affairs' insurance or benefit program; dependents of active and retired members of the Uniformed Services, selective service registrants.

All Federal civilian retirees.

All non-appropriated funded individuals who are employed by the Department of Defense.

Individuals who were or may have been the subject of tests involving chemical or biological human subject testing; and individuals who have inquired or provided information to the Department of Defense concerning such testing.

Individuals who are authorized web access to DMDC computer systems and databases.

Categories of Records: Computerized personnel/employment/pay records consisting of name, Service Number, Selective Service Number, Social Security Number (SSN), DoD Identification Number, citizenship data, compensation data, demographic information such as home town, age, sex, race, and educational level; civilian occupational information; performance ratings of DoD civilian employees and military members; reasons given for leaving military service or DoD civilian service; civilian and military acquisition work force warrant location, training and job specialty information; military personnel information such as rank, assignment/deployment, length of service, military occupation, aptitude scores, post-service education, training, and employment information for veterans; participation in various in-service education and training programs; date of award of certification of military experience and training; military hospitalization and medical treatment, immunization, and pharmaceutical dosage records; home and work addresses; and identities of individuals involved in incidents of child and spouse abuse, and information about the nature of the abuse and services provided.

CHAMPUS claim records containing enrollee, patient and health care facility, provided data such as cause of treatment, amount of payment, name and Social Security or tax identification number of providers or potential providers of care.

Selective Service System registration data.

Primary and secondary fingerprints of Military Entrance Processing Command (MEPCOM) applicants.

Department of Veteran Affairs disability payment records. Credit or financial data as required for security background investigations.

Criminal history information on individuals who subsequently enter the military.

Extract from Office of Personnel Management (OPM) OPM/CENTRAL-1, Civil Service Retirement and Insurance Records, including postal workers covered by Civil Service Retirement, containing Civil Service Claim number, date of birth, name, provision of law retired under, gross annuity, length of service, annuity commencing date, former employing agency and home address. These records provided by OPM for approved computer matching.

Non-appropriated fund employment/personnel records consist of Social Security Number (SSN), name, and work address.

Military drug test records containing the Social Security Number (SSN), date of specimen collection, date test results reported, reason for test, test results, base/area code, unit, service, status (active/reserve), and location code of testing laboratory.

Names of individuals, as well as DMDC assigned identification numbers, and other user-identifying data, such as organization, Social Security Number (SSN), email address, phone number, of those having web access to DMDC computer systems and databases, to include dates and times of access.

System(s) of Records:

1. The DMDC will use the system of records identified as DMDC 01, entitled “Defense Manpower Data Center Data Base,” last published in the Federal Register at November 23, 2011, 76 FR 72391.

2. VA will use the system of records identified as “Compensation, Pension, Education and Vocational Rehabilitation and Employment Records—VA” (58 VA21/22/28), republished in its entirety at 77 FR 42593, July 19, 2012.

Both record system contain an appropriate routine use provision permitting the disclosure and exchange of information pursuant to subsection (b)(3) of the Privacy Act. The routine use provisions are compatible with the purpose for which the information was collected and also reflect that the disclosures are made for computer matching purposes.

Dated: October 9, 2018.
Aaron T. Siegel,
Alternate OSD Federal Register Liaison Officer, Department of Defense.

[FR Doc. 2018-22236 Filed 10-11-18; 8:45 am]

BILLING CODE 5001-06-P